INTERNATIONAL TRADE COMMISSION

[Investigation No. 337-TA-713]

Certain Display Devices Including Digital Televisions and Monitors; Notice of Commission Determination Not To Review an Initial Determination Granting a Joint Motion To Terminate the Investigation in Its Entirety Based on a Settlement Agreement; Termination of Investigation

AGENCY: U.S. International Trade Commission.

ACTION: Notice.

SUMMARY: Notice is hereby given that the U.S. International Trade Commission has determined not to review the presiding administrative law judge's (“ALJ”) initial determination (“ID”) (Order No. 25) granting a joint motion to terminate the investigation in its entirety based on a settlement agreement.

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 21, 2010, based on a complaint filed by Sony Corporation of Japan (“Sony”). 75 FR 20860-1. The complaint, as amended and supplemented, alleges violations of Section 337 of the Tariff Act of 1930, as amended, 19 U.S.C. 1337, in the importation into the United States, the sale for importation, and the sale within the United States after importation of certain digital display devices including digital televisions and monitors by reason of infringement of certain claims of U.S. Patent Nos. 5,434,626; 5,751,373; 6,111,614; 5,583,577; 5,684,542; 5,731,847; 6,661,472; 6,816,131; Re 38,055; and Re 40,468. The complaint further alleges the existence of a domestic industry. The Commission's notice of investigation named various respondents including Chimei Innolux Corporation and Innolux Corporation (collectively “CMI”); TPV Technology Limited; Top Victory Electronics (Taiwan) Co.; TPV International (USA), Inc.; Envision Peripherals, Inc.; Top Victory Investments Ltd.; TPV Electronics (Fujian) Co. Ltd.; TPV Display Technology (Wuhan) Co.; TPV Technology (Beijing) Co., Ltd. (collectively “TPV respondents”). On September 24, 2010, the Commission determined not to review an ID granting Sony's motion to terminate the TPV respondents based on a settlement agreement.

On December 16, 2010, Sony and respondents CMI filed a joint motion to terminate the investigation based on a settlement agreement as embodied in a memorandum of understanding. On December 27, 2010, the Commission investigative attorney filed a response supporting the motion.

On January 3, 2011, the ALJ issued the subject ID granting the joint motion to terminate the investigation in its entirety pursuant to Commission Rule 210.21(b). No petitions for review of the subject ID were filed.

The Commission has determined not to review the ID.

The authority for the Commission's determination is contained in section 337 of the Tariff Act of 1930, as amended (19 U.S.C. 1337), and in section 210.42 of the Commission's Rules of Practice and Procedure (19 CFR 210.42).

Issued: February 2, 2011.
By order of the Commission.
William R. Bishop,
Hearings and Meetings Coordinator.

[FR Doc. 2011-2683 Filed 2-7-11; 8:45 am]

BILLING CODE P